DEPARTMENT OF DEFENSE

Department of the Air Force

GPS Satellite Simulator Working Group; Notice of Meeting

AGENCY: The United States Air Force, DoD.

ACTION: Amending GPS Simulator Working group Meeting Notice.

SUMMARY: We are requesting to amend the date of the GPS Simulator Working group meeting notice published on April 20, 2012 under 77 FR 23668. The date of the meeting will now be 15 May 2012 from 0730-1600 (Pacific Standard Time). This meeting notice is to inform the public that the Global Positioning Systems (GPS) Directorate will be hosting an open GPS Satellite Simulator Working Group (SSWG) meeting for manufacturers of GPS constellation simulators utilized by the federal government on 15 May 2012 from 0730-1600 (Pacific Standard Time). The purpose of this meeting is to disseminate information about GPS simulators, discuss current and on-going efforts related to simulators and form a functioning GPS Satellite Simulator Working Group with industry and government participation.

The GPS Satellite Simulator Working Group is open to any current manufacturer of GPS constellation satellite simulators who supply products to the Department of Defense. Please note that participants must possess a SECRET clearance to attend.

FOR FURTHER INFORMATION CONTACT: We request that you register for this event no later than 8 May 2012. Please send the registration to justin.deifel@losangeles.af.mil and wayne.urubio@losangeles.af.mil and provide your name, organization, telephone number, address and security clearance information.

Henry Williams Jr,
Acting Air Force Federal Register Liaison Officer, DAF.

[FR Doc. 2012-10148 Filed 4-26-12; 8:45 am]

BILLING CODE 5001-10-P